DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW, Washington, DC

Docket Number: 06-015. Applicant: University of Kentucky, Department of Chemistry, 235 Chem-Phys. Bldg., Lexington, KY 40506-0055. Instrument: Optical Parametric Oscillator System. Manufacturer: GWU Lasertechnik, Germany. Intended Use: The instrument is intended to be used to study small silicon, germanium, phosphorus and boron containing molecules in the gas phase using the technique of laser-induced fluorescence to develop methods for identifying and characterizing these molecules and to determine their molecular energy levels and geometries and to quantify these reactive molecules in laboratory and industrial environments. Application accepted by Commissioner of Customs: March 27, 2006.

Docket Number: 06-016. Applicant: University of Maryland, Materials Science and Engineering Department, Building 225, Lab 1246, College Park, MD 20742. Instrument: Electron Microscope, Model JEM-2100. Manufacturer: JEOL Ltd., Japan. Intended Use: The instrument is intended to be used to characterize nanomaterials and nanocomposites at the atomic level. These include semiconductor nanostructures, polymeric materials, metal nanoparticles, ferroelectric/ferromagnetic oxide nanocomposites and semiconductor nanowires. Properties of materials examined include crystal structure and quality of material, structural defects, and morphology using techniques of electron diffraction, high resolution lattice imaging, bright/dark field imaging and obtaining electron diffraction patterns and images of areas as small as a few nanometers in diameter. The instrument will also be used in courses and for conducting individual graduate research projects. Application accepted by Commissioner of Customs: April 4, 2006.

Docket Number: 06-017. Applicant: University of Michigan, Materials Science and Engineering Dept., 3062 H.H. Dow Bldg., 2300 Hayward Street, Ann Arbor, MI 48109-2136. Instrument: Ultrasonic Fatigue Testing Equipment. Manufacturer: BOKU Institute of Physics, Austria. Intended Use: The instrument is intended to be used to study ultra-high cyclic fatigue behavior of materials in the gigacycle regime where little data is currently available. Measurements for understanding crack growth behavior in various materials will be obtained for aiding in the prediction of lifetime behavior with cyclic loading frequencies to 20KHz. It will also be used to characterize new materials being developed to perform under high cyclic loading conditions, such as next generation superalloys used in aircraft and power generating turbines. Application accepted by Commissioner of Customs: April 10, 2006.

Gerald A. Zerdy,
Program Manager, Statutory Import Programs Staff.

[FR Doc. E6-6677 Filed 5-2-06; 8:45 am]

BILLING CODE 3510-DS-S